ENVIRONMENTAL PROTECTION AGENCY

[EPA-HQ-ORD-2009-0645; FRL-8953-7]

Notice of Availability of the External Peer Review Draft of Using Probabilistic Methods To Enhance the Role of Risk Analysis in Decision-Making With Case Study Examples: Correction

AGENCY: Environmental Protection Agency (EPA).

ACTION: Notice of document availability for public comment; correction.

SUMMARY: The U.S. Environmental Protection Agency (EPA) published a document in the Federal Register of August 18, 2009 (74 FR 41695), concerning notification of availability for public comment of two external review draft documents “Using Probabilistic Methods to Enhance the Role of Risk Analysis in Decision-Making With Case Study Examples,” and the “Managers' Summary” of the same document. The document contained an incorrect date for peer review, an incorrect EPA Docket number, and incorrect contact information. This correction notice also announces that the public comment period is being extended from 15 to 60 days, and that the peer review meeting is being modified from a letter peer review by closed teleconference to a publicly held external peer review meeting.

DATES: All comments received by October 16, 2009 will be shared with the external peer review panel for their consideration. Comments received beyond that time may be considered by EPA when it finalizes the documents.

FOR FURTHER INFORMATION CONTACT: Dr. Kathryn Gallagher, Risk Assessment Forum, Mail Code 8105R, Environmental Protection Agency, 1200 Pennsylvania Avenue, NW., Washington, DC 20460; telephone number: (202) 564-1398; fax number: (202) 564-2070, E-mail: gallagher.kathryn@epa.gov.

SUPPLEMENTARY INFORMATION: In the Federal Register of August 18, 2009, in FR Doc. E9-19755 on pages 41695 to 41696, the following corrections are made:

On page 41695, in the first column, correct the public comment period text to indicate that the public comment period is being extended from 15 days to 60 days: The U.S. Environmental Protection Agency (EPA) is announcing a 60-day public comment period for the external peer review draft of “Using Probabilistic Methods to Enhance the Role of Risk Analysis in Decision-Making With Case Study Examples,” a white paper, and the “Managers' Summary” of the same document. All comments received by the closing date of October 16, 2009 will be shared with the external peer review panel for their consideration.

On page 41695, in the third column, correct the “DATES” caption to indicate that the public comment period is being extended to 60 days:

DATES: All comments received by October 16, 2009 will be shared with the external peer review panel for their consideration. Comments received beyond that time may be considered by EPA when it finalizes the documents.

On page 41695, in the third column, correct the text to indicate that the peer review is being changed from letter and closed teleconference in the May 2009 time frame to a publicly held external peer review meeting in the Fall 2009 time frame:

The document will undergo independent peer review during an expert peer review meeting, which will be convened, organized and conducted by an EPA contractor in the Fall 2009 time frame. The external peer review meeting will be publicly held, all public comments received in the docket will shared with the peer reviewers, and members of the public will also be invited to give oral or provide written comments at the meeting regarding the draft document under review. The date of the external peer review meeting will be announced in a subsequent Federal Register notice.

On page 41695, in the second column, as well as other locations in the text identifying the docket number, correct the text to read:

The panel may consider public comments received in the official public docket for this activity under docket ID number EPA-HQ-ORD-2009-0645.

On page 41695 in the third column, and page 41696, in the first column, correct the contact information to read:

FOR FURTHER INFORMATION CONTACT: Dr. Kathryn Gallagher, Risk Assessment Forum, Mail Code 8105R, Environmental Protection Agency, 1200 Pennsylvania Avenue, NW., Washington, DC 20460; telephone number: (202) 564-1398; fax number: (202) 564-2070, E-mail: gallagher.kathryn@epa.gov.

Dated: September 1, 2009.
Kevin Teichman, PhD,
Acting EPA Science Advisor.

[FR Doc. E9-22411 Filed 9-16-09; 8:45 am]

BILLING CODE 6560-50-P